BUREAU OF CONSUMER FINANCIAL PROTECTION

[Docket No: CFPB-2016-0007]

Agency Information Collection Activities: Comment Request; Emergency Processing Request

AGENCY: Bureau of Consumer Financial Protection.

ACTION: Notice and request for comment.

SUMMARY: In accordance with the Paperwork Reduction Act of 1995 (PRA), the Consumer Financial Protection Bureau (Bureau) is proposing a new information collection titled, “Application Process for Designation of Rural Area under Federal Consumer Financial Law.”

DATES: An emergency review has been requested in accordance with the PRA (44 U.S.C. Chapter 3507(j)). Approval by the Office of Management and Budget (OMB) has been requested by February 29, 2016. A standard PRA clearance process is also beginning. Interested persons are invited to submit comments on or before April 18, 2016.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted after the comment period will not be accepted. In general, all comments will become public records, including any personal information provided. Sensitive personal information, such as account numbers or social security numbers, should not be included.

FOR FURTHER INFORMATION CONTACT: Documentation prepared in support of this information collection request is available at www.regulations.gov. Requests for additional information should be directed to the Consumer Financial Protection Bureau, (Attention: PRA Office), 1700 G Street, NW., Washington, DC 20552, (202) 435-9575, or email: PRA@cfpb.gov. Please do not submit comments to this mailbox.

SUPPLEMENTARY INFORMATION:

Title of Collection: Application Process for Designation of Rural Area under Federal Consumer Financial Law.

OMB Control Number: 3170-XXXX.

Type of Review: New collection (Request for a new OMB control number).

Affected Public: Private sector (banks and credit unions).

Estimated Number of Respondents: 1.

Estimated Total Annual Burden Hours: 5.

Abstract: On December 4, 2015, Congress passed the Helping Expand Lending Practices in Rural Communities Act of 2015 (HELP Rural Communities Act or the Act) Public Law 114-94, Title LXXXIX (2015). Section 89002 requires the Bureau to establish, within 90 days of its passage, a procedure by which persons and businesses may apply to have a geographic area designated as “rural” for the purposes of applying federal consumer protection law and certain exceptions related to areas so designated.

Due to the 90-day deadline, contained in the Act, if following standard PRA clearance procedures, the Bureau would be unable to meet this statutory deadline. In order to meet the statutory deadline, the Bureau plans to issue the enabling procedural rule by March 3, 2016. Therefore, the Bureau is requesting emergency processing and approval of the following information collection request.

The Bureau requests OMB approval of this request by February 29, 2016. Contemporaneously with this request for emergency processing, the Bureau is also initiating standard clearance procedures by publishing a notice in the Federal Register allowing the public 60 days to comment on this collection of information. Accordingly, this request will also be resubmitted to OMB under standard clearance procedures.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: February 12, 2016.
Darrin A. King,
Paperwork Reduction Act Officer, Bureau of Consumer Financial Protection.

[FR Doc. 2016-03422 Filed 2-17-16; 8:45 am]

BILLING CODE 4810-AM-P